NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 17, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by E-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Housing and Urban Development, Office of Multifamily Housing Assistance Restructuring (N1-207-03-1, 34 items, 29 temporary items). Records relating to restructuring mortgages supported by public assistance, including such records as chronological files, working papers, asset files, grant files, contract files, contract appeal files, voucher files, a data base used for tracking properties and transactions, and web site copies of forms, publications, and other documents. Also included are electronic copies of records created using electronic mail and word processing. Recordkeeping copies of such records as program subject files, policy files, publications, reports and studies, and training records are proposed for permanent retention.

2. Department of Justice, Civil Division (N1-60-03-4, 4 items, 4 temporary items). Lists of approved annuity brokers and declarations submitted by annuity brokers seeking approval to administer structured settlements entered into by the U.S. Government. Also included are electronic copies of records created using electronic mail and word processing.

3. Department of Justice, Drug Enforcement Administration (N1-170-03-8, 10 items, 10 temporary items). System inputs, outputs, master files, and documentation associated with the Chemical Transaction Analysis System, which is used to monitor the distribution of specified chemicals and identify suspicious transactions and relationships between chemical distributors. Also included are electronic copies of records created using electronic mail and word processing.

4. Department of the Treasury, Office of Sallie Mae Oversight (N1-56-03-8, 6 items, 3 temporary items). Work papers and electronic copies of records created using electronic mail and word processing relating to agency oversight of the Student Loan Marketing Association. Proposed for permanent retention are recordkeeping copies of examination reports, correspondence, and briefing materials.

5. Department of the Treasury, Financial Management Service (N1-425-03-6, 8 items, 8 temporary items). Records of the Financial Accounting and Services Division, including such records as courtesy disbursement files, inputs, outputs, system documentation, and master files of the Courtesy Disbursement Database, and out of balance correspondence files. Also included are electronic copies of records created using electronic mail and word processing.

6. Department of the Treasury, U.S. Mint (N1-104-03-8, 6 items, 6 temporary items). Records relating to the employee advocate program, including case files, working papers, and electronic copies of records created using electronic mail and word processing.

7. Department of Veterans Affairs, Veterans Health Administration (N1-15-03-1, 9 items, 9 temporary items). Electronic and paper records relating to health benefits and reimbursements provided to certain veterans and dependents of veterans. Included are such records as applications, requests, certifications, supporting documentation, payment information, correspondence, appeals documents, health care treatment documents, and claims for medical services. Master files, electronic indexes, system backups, internal reports, and system documentation are included as are electronic copies of records created using electronic mail and word processing.

8. Federal Energy Regulatory Commission, Agency-wide (N1-138-03-1, 5 items, 5 temporary items). Substantive and non-substantive working papers, including electronic copies of documents created using electronic mail and word processing.

9. National Aeronautics and Space Administration, Agency-wide (N1-255-03-2, 3 items, 2 temporary items). Copies and printouts of records taken to or reproduced on board the International Space Station. Also included are electronic copies of records created using electronic mail and word processing. Proposed for permanent retention are recordkeeping copies of such records as daily work plans, procedural checklists and updates, payload and systems operational data, malfunction and reference data, and other data concerning the operations of the Station.

10. National Archives and Records Administration, Office of Human Resources and Information Services (N1-64-03-8, 4 items, 4 temporary items). Requests for services and a tracking database relating to the Computer/Electronic Accommodations Program, which provides equipment and services for employees in accordance with Section 508 of the Rehabilitation Act of 1973. Also included are electronic copies of records created using electronic mail and word processing.

11. Nuclear Regulatory Commission, Office of Nuclear Security and Incident Response (N1-431-03-1, 105 items, 90 temporary items). Electronic records in the Commission's Agencywide Document Access and Management System (ADAMS) accumulated by the Office of Nuclear Security and Incident Response, including electronic copies of records created using office automation tools and records used to create ADAMS portable document format files. Records proposed for disposal include electronic recordkeeping copies of records related to committees and conferences for which the agency is not the sponsor, program correspondence accumulated below the office director level, safeguard status reports, and systems security records. Paper copies of these records were previously approved for disposal. Series proposed for permanent retention include recordkeeping copies of such files as significant committee and conference records, emergency planning records, program correspondence accumulated at the office director level, international safeguards program files, and security policy files.

Dated: September 24, 2003.
Michael J. Kurtz,
Assistant Archivist for Record Services—Washington, DC.

[FR Doc. 03-24802 Filed 9-30-03; 8:45 am]

BILLING CODE 7515-01-P